DEPARTMENT OF HEALTH AND HUMAN SERVICES

National Institutes of Health

National Institute of Environmental Health Sciences; Amended Notice of Meeting

Notice is hereby given of a change in the meeting of the National Advisory Environmental Health Sciences Council, February 14, 2017, 08:30 a.m. to February 15, 2017, 10:00 a.m., National Institute of Environmental Health Sciences, Building 101, Rodbell Auditorium, 111 T.W. Alexander Drive, Research Triangle Park, NC 27709 which was published in the Federal Register on January 10, 2017, 82 FR 3014.

This notice is to amend the date of the closed session and to add an additional open session date. The closed session will be held on February 14, 2017 from 8:30 a.m. to 10:15 a.m. The open session will now be held on February 14, 2017 from 10:30 a.m. to 4:00 p.m. and on February 15, 2017 from 8:30 a.m. to 10:30 a.m.

The meeting is partially Closed to the public.

Dated: January 18, 2017.
Natasha M. Copeland,
Program Analyst, Office of Federal Advisory Committee Policy.

[FR Doc. 2017-01574 Filed 1-24-17; 8:45 am]

BILLING CODE 4140-01-P